DEPARTMENT OF THE INTERIOR

Bureau of Land Management

[NM-910-04-1020-PH]

New Mexico Resource Advisory Council, Notice of Call for Nominations

AGENCY: Bureau of Land Management, Department of the Interior.

ACTION: Notice of public meeting.

SUMMARY: In accordance with the Federal Land Policy and Management Act and the Federal Advisory Committee Act of 1972, the U.S. Department of the Interior, Bureau of Land Management, New Mexico Resource Advisory Council (RAC) will meet as indicated below.

DATES: The meeting dates are February 26-27, 2004, at Marbob Energy, 2208 West Main, Artesia, New Mexico, beginning at 8 a.m. both days. The meeting will adjourn at approximately 5 p.m. on Thursday and 11:30 a.m. on Friday. The three established RAC working groups may have a late afternoon or an evening meeting on Thursday, February 26, 2004

An optional field trip is planned for Wednesday, February 25, 2004. The public comment period is scheduled for Wednesday, February 25, from 6-8 p.m. at Marbob Energy, 2208 West Main, Artesia, New Mexico. The public may present written comments to the RAC.

Depending on the number of individuals wishing to comment and time available, oral comments may be limited.

SUPPLEMENTARY INFORMATION: The 15-member RAC advises the Secretary of the Interior, through the Bureau of Land Management, on a variety of planning and management issues associated with public land management in New Mexico. All meetings are open to the public. At this meeting, topics for discussion include: Otero Mesa Unitization working Group results, rehabilitation of the oil and gas legacy wells, oil and gas and cultural management in the Carlsbad Area, the Preferred Upstream Management Practices (PUMP) III Project (a cultural resources Geographic Information System database focused on oil and gas fields), update on noxious weeds program, access follow-up, and proposed RAC initiatives.

FOR FURTHER INFORMATION CONTACT: Theresa Herrera, New Mexico State Office, Office of External Affairs, Bureau of Land Management, P.O. Box 27115, Santa Fe, New Mexico 87502-0115, (505) 438-7515.

Dated: December 15, 2003.
Linda S.C. Rundell,
State Director.

[FR Doc. 03-31284 Filed 12-18-03; 8:45 am]

BILLING CODE 4310-FB-P